DEPARTMENT OF EDUCATION

34 CFR Subtitle A

[Docket ID ED-2013-OS-0050]

RIN 1810-AB17

Final Priorities, Requirements, Definitions, and Selection Criteria: Race to the Top—District Program; Correction

AGENCY: Office of the Deputy Secretary, U.S. Department of Education.

ACTION: Final priorities, requirements, definitions, and selection criteria; correction.

SUMMARY: The Secretary of Education is correcting an omission in the final priorities, requirements, definitions, and selection criteria published in the Federal Register on August 6, 2013 (78 FR 47980), namely waiving the 60-day time period for a major rule to become effective under the Congressional Review Act. Through this document, we correct this omission. We do not change any other aspect of the final priorities, requirements, definitions, and selection criteria, and their regulatory texts remain unchanged.

DATES: Effective September 5, 2013.

FOR FURTHER INFORMATION CONTACT: James Butler, U.S. Department of Education, 400 Maryland Ave. SW., Room 7E214, Washington, DC 20006-8542. Telephone: (202) 260-9737 or by email: james.butler@ed.gov.

If you use a telecommunications device for the deaf (TDD) or a text telephone (TTY), call the Federal Relay Service (FRS), toll free, at 1-800-877-8339.

SUPPLEMENTARY INFORMATION: Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Correction

In the Federal Register of August 6, 2013 (78 FR 47980), we make the following correction to the Race to the Top—District Program notice of final priorities, requirements, definitions, and selection criteria:

On page 48003, in the first column, before the heading “Intergovernmental Review,” add a new heading, Waiver of Delayed Effective Date under the Congressional Review Act, and the following three paragraphs:

These final priorities, requirements, definitions, and selection criteria have been determined to be a major rule for purposes of the Congressional Review Act (CRA) (5 U.S.C. 801, et seq.). Generally, under the CRA, a major rule takes effect 60 days after the date on which the rule is published in the Federal Register. Section 808(2) of the CRA, however, provides that any rule which an agency for good cause finds (and incorporates the finding and a brief statement of reasons therefore in the rule issued) that notice and public procedure thereon are impracticable, unnecessary, or contrary to the public interest, shall take effect at such time as the Federal agency promulgating the rule determines.

These final priorities, requirements, definitions, and selection criteria are needed to implement the Race to the Top—District program and run the competition in FY 2013. The Department must make awards no later than December 31, 2013, or the funds will lapse. To ensure that we do so, the Department established October 3, 2013, as the deadline by which applicants must submit their applications. This will give applicants sufficient time to submit high-quality applications (58 days), peers sufficient time to conduct a thorough and rigorous review of applications (approximately 45 days), and the Department sufficient time to make awards (approximately 40 days).

An effective date 60 days after publication would fall after October 3, and the priorities, requirements, definitions, and selection criteria would not be effective at the time applications are due. Given the large number of applications we expect, the need to provide peers with sufficient time for review, and the need to allow sufficient time for the Department to make awards, a later due date for applications is not practicable. Accordingly, there is good cause to waive the delayed effective date under the Congressional Review Act.

Dated: August 30, 2013.
Arne Duncan,
Secretary of Education.

[FR Doc. 2013-21640 Filed 9-4-13; 8:45 am]

BILLING CODE 4000-01-P